DEPARTMENT OF THE INTERIOR

U.S. Geological Survey

[USGS-GX13LR000F60100]

Agency Information Collection Activities: Comment Request for the Mine, Development, and Mineral Exploration Supplement (1 Form)

AGENCY: U.S. Geological Survey (USGS), Interior.

ACTION: Notice of an extension of a currently approved information collection (1028-0060).

SUMMARY: To comply with the Paperwork Reduction Act of 1995 (PRA), we are notifying the public that we have submitted to the Office of Management and Budget (OMB) an information collection request (ICR) for the extension of the currently approved paperwork requirements for the Mine, Development, and Mineral Exploration Supplement. This collection consists of one form and this notice provides the public and other Federal agencies an opportunity to comment on the nature of this collection which is scheduled to expire on March 31, 2013.

DATES: Please submit your comments on or before April 18, 2013.

ADDRESSES: To ensure that your written comments on this ICR are considered, please submit them directly to the OMB Office of Information and Regulatory Affairs, Attention: Desk Officer for the Department of the Interior via email to oira_submission@omb.eop.gov or fax at 202-395-5806; and reference Information Collection 1028-0060 in the subject line. Please also submit a copy of your comments to Information Collection Clearance Officer, U.S. Geological Survey, 12201 Sunrise Valley Drive, Mail Stop 807, Reston, VA 20192 (mail); 703-648-7199 (fax); or smbaloch@usgs.gov (email). Reference Information Collection 1028-0060 in the subject line.

FOR FURTHER INFORMATION CONTACT: Shonta E. Osborne at 703-648-7960 (telephone); sosborne@usgs.gov (email); or by mail at U.S. Geological Survey, 985 National Center, 12201 Sunrise Valley Drive, Reston, VA 20192. To see a copy of the entire ICR submitted to OMB, go to http://www.reginfo.gov.

SUPPLEMENTARY INFORMATION:

I. Abstract

Respondents will use this form to supply the USGS with domestic production, exploration, and mine development data for nonfuel mineral commodities. This information will be published as an Annual Report for use by Government agencies, industry, academia, and the general public.

II. Data

OMB Control Number: 1028-0060.

Form Number: 9-4000-A.

Title: Mine, Development, and Mineral Exploration Supplement.

Type of Request: Extension of a currently approved collection.

Affected Public: Private sector: U.S. nonfuel minerals producers and exploration operations; Public sector: State and local governments.

Respondent Obligation: Voluntary.

Frequency of Collection: Annually.

Estimated Number of Annual Responses: 887.

Annual Burden Hours: 666 hours. We expect to receive 887 annual responses. We estimate an average of 45 minutes per response.

Estimated Reporting and Recordkeeping “Non-Hour Cost” Burden: We have not identified any “non-hour cost” burdens associated with this collection of information.

Public Disclosure Statement: The PRA (44 U.S.C. 3501, et seq.) provides that an agency may not conduct or sponsor a collection of information unless it displays a currently valid OMB control number and current expiration date.

III. Request for Comments

On September 17, 2012, we published a Federal Register Notice (77 FR 57111) announcing that we would submit this ICR to OMB for approval and soliciting comments. The comment period closed on November 16, 2012. We did not receive any public comments in response to that notice.

We again invite comments concerning this ICR on: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that the comments submitted in response to this notice are a matter of public record. Before including your address, phone number, email address, or other personal identifying information in your comment, you should be aware that your entire comment, including your personal identifying information, may be made publicly available at any time. Although you can ask OMB in your comment to withhold your personal identifying information from public review, we cannot guarantee that it will be done.

Dated: March 12, 2013.
John H. DeYoung, Jr.,
Director, National Minerals Information Center, U.S. Geological Survey.

[FR Doc. 2013-06269 Filed 3-18-13; 8:45 am]

BILLING CODE 4311-AM-P